DEPARTMENT OF HOMELAND SECURITY

U.S. Customs and Border Protection

U.S. Customs and Border Protection 2012 East Coast Trade Symposium: “Expanding 21st Century Global Partnerships”

AGENCY: U.S. Customs and Border Protection, Department of Homeland Security (DHS).

ACTION: Notice of trade symposium.

SUMMARY: This document announces that CBP will convene the second of this year's two trade symposia on Monday, October 29 and Tuesday, October 30, 2012. The East Coast Trade Symposium will be held in Washington, DC and will feature panel discussions involving agency personnel, members of the trade community and other government agencies, on the agency's role in international trade initiatives and programs. This year marks our twelfth year hosting trade symposia. Members of the international trade and transportation communities and other interested parties are encouraged to attend.

DATES: Monday, October 29, 2012, (opening remarks, breakout sessions, and panel discussions 1 p.m.-5:40 p.m.). Tuesday, October 30, 2012, (opening remarks, panel discussions, and closing remarks 8:45 a.m.-5:30 p.m.).

ADDRESSES: The CBP 2012 East Coast Trade Symposium will be held at the Renaissance DC Hotel, at 999 9th Street, NW., Washington, DC 20001, Renaissance Ballroom.

FOR FURTHER INFORMATION CONTACT: The Office of Trade Relations at (202) 344-1440, or at tradeevents@dhs.gov. To obtain the latest information on the Symposium and to register online, visit the CBP Web site at http://cbp.gov/xp/cgov/trade/trade_outreach/2012_tradesymp/. Requests for special needs should be sent to the Office of Trade Relations at tradeevents@dhs.gov.

SUPPLEMENTARY INFORMATION: In a document published in the Federal Register (77 FR 16048) on March 19, 2012, CBP announced that it was planning on holding two trade symposia this year, one on the West Coast and one on the East Coast. A West Coast Symposium, announced in that same Federal Register notice, was held on May 10, 2012 in Long Beach, California.

This document announces that CBP will convene the second of this year's two trade symposia—the East Coast Symposium on Monday, October 29 and Tuesday, October 30, 2012 in Washington, DC. The theme for the 2012 East Coast Trade Symposium will be “Expanding 21st Century Global Partnerships.” The format of this year's East Coast Symposium will be held with general sessions and breakout sessions. Discussions will be held regarding CBP's role in international trade initiatives and partnerships.

The agenda for the 2012 East Coast Trade Symposium and the keynote speakers will be announced at a later date on the CBP Web site (http://www.cbp.gov). The registration fee is $151.00 per person. Interested parties are requested to register early, as space is limited. Registration will open to the public on or about Wednesday, August 29, 2012. All registrations must be made on-line at the CBP Web site (http://www.cbp.gov) and will be confirmed with payment by credit card only.

Due to the overwhelming interest to attend past symposiums, each company is requested to limit their company's registrations to no more than three participants, in order to afford equal representation from all members of the international trade community. If a company exceeds the limitation, any additional names submitted for registration will automatically be placed on the waiting list.

As an alternative to on-site attendance, access to live webcasting of the event will be available for a fee of $131.00. This includes the broadcast and historical access to recorded sessions for a period of time after the event.

Hotel accommodations will be announced at a later date on the CBP Web site (http://www.cbp.gov).

Dated: August 24, 2012.
Mindy J. Wallace,
Senior Management and Program Analyst, Office of Trade Relations.

[FR Doc. 2012-21379 Filed 8-29-12; 8:45 am]

BILLING CODE 9111-14-P